CIVIL RIGHTS COLD CASE RECORDS REVIEW BOARD

[Agency Docket Number: CRCCRRB-2026-0001-N]

Notice of Formal Determination on Records Release

AGENCY: Civil Rights Cold Case Records Review Board.

ACTION: Notice.

SUMMARY: The Civil Rights Cold Case Records Review Board received 2,883 pages of records from the National Archives and Records Administration (NARA) and the Federal Bureau of Investigation (FBI) related to three civil rights cold case incidents to which the Review Board assigned the unique identifiers 2024-003-020, 2024-003-037, and 2024-003-039. The agencies proposed 65 postponements in the records. The FBI later withdrew 17 of the postponements the Bureau proposed after consultation with the Review Board. On September 12 and October 3, 2025, the Review Board approved 22 postponements and portions of 2 additional postponements, and determined that 2,866 pages in full and 17 pages in part should be publicly disclosed in the Civil Rights Cold Case Records Collection. The Review Board is still coordinating its review of 18 proposed postponements with the agencies because of the sensitive nature of the information. This information is postponed until this coordination is complete and the Review Board can make a final disclosure decision. By issuing this notice, the Review Board complies with the Civil Rights Cold Case Records Collection Act of 2018 that requires the Review Board to publish in the Federal Register its determinations on the disclosure or postponement of records in the Collection no more than 14 days after the date of its decision.

FOR FURTHER INFORMATION CONTACT: Stephannie Oriabure, Chief of Staff, Civil Rights Cold Case Records Review Board, 1800 F Street NW, Washington, DC 20405, (771) 221-0014, info@coldcaserecords.gov.

SUPPLEMENTARY INFORMATION:

Incident identifier | Postponement identifier | Review board decision
2024-003-020 | 2024-NARA-03-0103 through 2024-NARA-03-0106 | Postponed while undergoing Board review.
2024-003-020 | 2024-NARA-03-0107 through 2024-NARA-03-0126 | Approve.
2024-003-020 | 2024-NARA-03-0127 through 2024-NARA-03-0133 | Postponed while undergoing Board review.
2024-003-020 | 2024-FBI-03-2838c and 2024-FBI-03-2838d | Withdrawn.
2024-003-020 | 2024-FBI-03-2839 through 2024-FBI-03-2844 | Withdrawn.
2024-003-020 | 2024-FBI-03-2845 | Approve with changes.
2024-003-020 | 2024-FBI-03-2846 through 2024-FBI-03-2851 | Withdrawn.
2024-003-037 | 2025-NARA-03-0083 through 2025-NARA-03-0087 | Postponed while undergoing Board review.
2024-003-039 | 2024-NARA-03-0086 through 2024-NARA-03-0088 | Reject.
2024-003-039 | 2024-NARA-03-0089 and 2024-NARA-03-0090 | Postponed while undergoing Board review.
2024-003-039 | 2024-NARA-03-0091 through 2024-NARA-03-0093 | Reject.

Authority: Public Law 115-426, 132 Stat. 5489 (44 U.S.C. 2107).

Dated: September 30, 2025.
Stephannie Oriabure,
Chief of Staff.

[FR Doc. 2025-21343 Filed 11-26-25; 8:45 am]

BILLING CODE 6820-SY-P